DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on April 6, 2009. A comment dated June 5, 2009 was received, suggesting that the Maritime Administration (MARAD) amend its forms MA-29, MA-29A and MA-29B (Vessel Transfer Forms) to reference the applicability of the Toxic Substance Control Act (TSCA), and 40 CFR 761.97, thereby reflecting the statutory and regulatory constraints regarding the export of United States documented vessels for scrapping or refit outside the United States.

MARAD was given the mandate to (a) approve the transfer (the term transfer includes the sale, lease, charter, or agreement to sell, lease or charter to a person not a citizen of the United States) (46 U.S.C. 5610) of a United States documented vessel to a person who is not a citizen of the United States, and (b) approve the placement of a United States documented vessel under foreign registry and/or the operation of a United States documented vessel under the authority of a foreign country by a person who is not a citizen of the United States. Federal agencies generally may perform only those duties authorized by statute.

MARAD's forms collect the information we require to make a decision regarding the mandated transfer approvals. To collect additional information on the Vessel Transfer Forms would exceed our mandated authority.

In order to deal with the issue of vessels being transferred for scrapping outside the United States, we have instituted a procedure of providing written notification to the Environmental Protection Agency (EPA) of all foreign vessel transfer approvals at the time they are issued by the MARAD (Letter dated April 2, 2008, from Maritime Administrator to the Administrator of the EPA.). This will provide information to the EPA on where and when any demolition will take place. In addition, when an application for transfer includes a vessel leaving the U.S. registry for subsequent foreign disposal, the owner and/or buyer of the vessel are advised that the vessel may be subject to the TSCA and EPA implementing regulations.

DATES: Comments for this notice must be submitted on or before September 9, 2009.

FOR FURTHER INFORMATION CONTACT: Mr. Jerome Davis, Maritime Administration, 1200 New Jersey Avenue, SE., Washington, DC 20590. Telephone: 202-366-0688; or E-Mail: jerome.davis@dot.gov. Copies of this collection also can be obtained from that office.

SUPPLEMENTARY INFORMATION: Maritime Administration (MARAD).

Title: Request for Transfer of Ownership, Registry, and Flag, or Charter, Lease, or Mortgage of U.S.-Citizen Owned Documented Vessels.

OMB Control Number: 2133-0006.

Type of Request: Extension of currently approved collection.

Affected Public: Vessel owners who have applied for foreign transfer of U.S.-flag vessels.

Forms: MA-29, MA-29A, MA-29B (Note: MA-29A is used only in cases of a National emergency).

Abstract: This collection provides information necessary for MARAD to approve the sale, transfer, charter, lease, or mortgage of U.S. documented vessels to non-citizens, or the transfer of such vessels to foreign registry and flag, or the transfer of foreign flag vessels by their owners as required by various contractual requirements. The information will enable MARAD to determine whether the vessel proposed for transfer will initially require retention under the U.S.-flag statutory regulations.

Annual Estimated Burden Hours: 120 hours.

Addresses: Send comments to the Office of Information and Regulatory Affairs, Office of Management and Budget, 725 17th Street, NW., Washington, DC 20503, Attention MARAD Desk Officer.

Comments Are Invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology. A comment to OMB is best assured of having its full effect if OMB receives it within 30 days of publication.

Authority: 49 CFR 1.66.

By order of the Maritime Administrator.
Dated: July 30, 2009.
Murray Bloom,
Acting Secretary, Maritime Administration.

[FR Doc. E9-19059 Filed 8-7-09; 8:45 am]

BILLING CODE 4910-81-P